DEPARTMENT OF JUSTICE

Notice of Lodging of Proposed Settlement Agreement Under the Comprehensive Environmental Response, Compensation and Liability Act (CERCLA)

Notice is hereby given that on March 13, 2009, a proposed Settlement Agreement and Consent Decree Establishing a Custodial Trust for Certain Owned Sites in Alabama, Arizona, Arkansas, Colorado, Illinois, Indiana, New Mexico, Ohio, Oklahoma, Utah and Washington was filed with the United States Bankruptcy Court for the Southern District of Texas in In re Asarco LLC, No. 05-21207 (Bankr. S.D. Tex.). The proposed Agreement entered into by the United States on behalf of the Environmental Protection Agency (EPA), several states, and Asarco LLC provides, inter alia, for the establishment of a custodial trust, the transfer of certain properties to that trust, and funding of the trust with allowed administrative expense claims totaling $70,955,493 for administrative and site cleanup costs. The proposed Agreement covers the following sites: Ragland Site in St Clair County, Alabama; Sacaton near Casa Grande, Arizona; Trench Mine and Salero Sites near Patagonia and Rio Rico, Arizona; Van Buren Site in Crawford County, Arkansas; Silverton Site in San Juan County, Colorado; Globe Site in Adams and Denver Counties, Colorado; Alton Site in Madison County, Illinois; Taylor Springs Site in Taylor Springs, Illinois; Beckemeyer Site in Clinton County, Illinois; Whiting Site in Lake County, Indiana; Deming Site in Luna County, New Mexico; Magdalena Site in Soccorro County, New Mexico; Columbus/Blue Tee Site in Franklin County, Ohio; Sand Springs Site in Tulsa County, Oklahoma; Gold Hill Site in Toole County, Utah; Belshazzar Site in Salt Lake County, Utah; Murray Site in Salt Lake County, Utah; and McFarland Site in Pierce County, Washington.

The Department of Justice will receive comments relating to the proposed Agreement for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to In re Asarco LLC, DJ Ref. No. 90-11-3-08633. Commenters may request an opportunity for a public meeting in the affected area, in accordance with Section 7003(d) of RCRA, 42 U.S.C. 6973(d).

The proposed Agreement may be examined at the Office of the United States Attorney for the Southern District of Texas, 800 North Shoreline Blvd, #500, Corpus Christi, TX 78476-2001, at the Region 5 Office of the United States Environmental Protection Agency, 77 West Jackson Boulevard, Chicago, IL 60604-3507; the Region 8 Office of the United States Environmental Protection Agency, 1595 Wynkoop St., Denver, CO 80202-1129; or at the Region 10 Office, 1200 Sixth Avenue, Seattle, Washington 98101. During the public comment period, the proposed Agreement may also be examined on the following Department of Justice Web site, http://www.usdoj.gov/enrd/Consent_Decrees.html. A copy of the proposed Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $9.00 (without attachments) or $37.75 (with attachments) (25 cents per page reproduction cost) payable to the U.S. Treasury.

Maureen Katz,
Assistant Section Chief, Environmental Enforcement Section.

[FR Doc. E9-6446 Filed 3-23-09; 8:45 am]

BILLING CODE 4410-15-P